DEPARTMENT OF THE INTERIOR

National Park Service

[NPS-WASO-NAGPRA-NPS0030625; PPWOCRADN0-PCU00RP14.R50000]

Notice of Inventory Completion: Department of Anthropology Museum at the University of California, Davis, Davis, CA: Correction

AGENCY: National Park Service, Interior.

ACTION: Notice; correction.

SUMMARY: The University of California, Davis (UC Davis) has corrected an inventory of human remains and associated funerary objects, published in a Notice of Inventory Completion in the Federal Register on August 13, 2008. This notice corrects the minimum number of individuals and number of associated funerary objects. Lineal descendants or representatives of any Indian Tribe or Native Hawaiian organization not identified in this notice that wish to request transfer of control of these human remains and associated funerary objects should submit a written request to UC Davis. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UC Davis at the address in this notice by September 21, 2020.

ADDRESSES: Megon Noble, NAGPRA Project Manager, University of California, Davis, 412 Mrak Hall, One Shields Avenue, Davis, CA 95616, telephone (530) 752-8501, email mnoble@ucdavis.edu.

SUPPLEMENTARY INFORMATION: Notice is here given in accordance with the Native American Graves Protection and Repatriation Act (NAGPRA), 25 U.S.C. 3003, of the correction of an inventory of human remains and associated funerary objects under the control of the University of California, Davis, Davis, CA. The human remains and associated funerary objects were removed from Colusa County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (73 FR 47228-47229, August 13, 2008). Additional human remains were newly identified after review of faunal collections. In addition, human remains from this site previously identified as culturally unidentifiable were re-evaluated in consultation and determined to be culturally affiliated. Based on consultation and review of the original field records, associated funerary objects were added. Transfer of control of the items in this correction notice has not occurred.

Correction

In the Federal Register (73 FR 47228, August 13, 2008) column two, paragraph four, sentence one is corrected by substituting the following sentence:

In 1973, human remains representing a minimum of 12 individuals were removed from Miller Mound (CA-COL-1), Colusa County, CA by the University of California, Davis archeological field school.

In the Federal Register (73 FR 47228, August 13, 2008) column two, paragraph four, sentence three is corrected by substituting the following sentences:

The 40,272 associated funerary objects (contained in 733 lots) are approximately 5,422 beads (in 77 lots) of clamshell disc beads and other shell beads, approximately 34,368 beads (in 174 lots) of historic beads (some lots include clamshell disc beads, which are counted within these historic lots), 170 abalone pendants, 33 Olivella beads, one piece of worked shell, two bone beads, two magnesite cylinders, one stone pendant, five stone discs, 44 bone awls, five bone or antler flakers, two bone harpoons, one bone needle, one bone spatulate, five pieces of miscellaneous worked bone, 30 projectile points, one chert drill, 32 pieces of chip stone (including bifaces, flakes, and debitage), six ground stone and ground stone fragments, seven buttons, 44 historic coins (three of which include attached clamshell beads not included in the clamshell count), one piece of historic glass, three historic nails, 24 metal fragments (including a crushed metal pot), one leather bag or hat, eight textile and textile/bead fragments, one ceramic fragment, three fire-cracked rock fragments, one lot of ochre, seven lots of unmodified shell, 32 lots of animal bone fragments, two pieces of charcoal, and seven lots of seeds. (Two clamshell disc beads, three lots of historic beads (174 beads), two abalone pendants, two Olivella beads, one bone awl, four bone or antler flakers, two projectile points, one chip stone object, and one lot of animal bone fragments are currently missing.)

In the Federal Register (73, FR 47228, August 13, 2008) column three, paragraph one is corrected by substituting the following paragraph:

Based on burial context and site characteristics, the human remains described above from the Miller Mound site are determined to be Native American. The Miller Mound site was documented as a historic village site inhabited by River Patwin. The antiquity of the site as a whole may range between the Middle Period to the Historic (200 B.C.-A.D. 1872). The burials described in this Notice are determined to have originated from the Protohistoric (Phase 2 of the Late Period) and Historic periods. Geographical, historical, archeological, anthropological, linguistic and biological evidence suggest continuity of populations between Late and Historic periods (Golla 2011, Johnson 1978, Kroeber 1925, 1978, Moratto 1984, Newman 1957). The human remains and associated funerary objects described above are reasonably believed to be culturally affiliated with Patwin tribes.

In the Federal Register (73, FR 47228, August 13, 2008) column three, paragraph two, sentence one is corrected by substituting the following sentence:

In 1969 and 1971, human remains representing a minimum of sixteen individuals were removed from CA-COL-11, Colusa County, CA by two University of California, Davis archeological field schools.

In the Federal Register (73, FR 47228, August 13, 2008) column three, paragraph two, sentence four is corrected by substituting the following sentences:

The 502 individual and lots of associated funerary objects are five bird bone tubes, eight bone awls, two flake tools, 27 lots of debitage and flakes, 142 lots of clamshell beads (includes bead blanks and refuse), one clay fragment, six glass beads, one groundstone tablet, six Haliotis pendants or ornaments, five historic beads, two incised bird bones, three lots of freshwater shell, 10 lots of non-human bone, 19 lots of ochre, one point blank, six projectile points, one utilized flake, 120 Olivella beads, three pestles, two quartz crystals, one worked sandstone, one lot of sediment described as “grave fill”, three seeds, one shell bead, one steatite bead, 18 unmodified shell fragments, 61 lots of worked bone, one lot of charcoal described as “Burial-wood for dating”, one broken mortar (in two pieces), 17 lots of pinenuts and pinenut hulls, 24 lots of wood, and three lots of soil. (12 lots of clamshell beads, one glass bead, one Haliotis ornament, one lot of ochre, three projectile points, 12 Olivella beads, three lots of worked bone, and one lot of pinenuts are currently missing.)

In the Federal Register (73, FR 47229, August 13, 2008) column one, paragraph three, sentence one is corrected by substituting the following sentence:

Officials of the Department of Anthropology Museum at the University of California, Davis have determined that, pursuant to 25 U.S.C. 3001 (9-10), the human remains described above represent the physical remains of 32 individuals of Native American ancestry.

In the Federal Register (73, FR 47229, August 13, 2008) column one, paragraph three, sentence two is corrected by substituting the following sentence:

Officials of the Department of Anthropology Museum at the University of California, Davis also have determined that, pursuant to 25 U.S.C. 3001 (3)(A), the 40,817 objects described above are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Megon Noble, NAGPRA Project Manager, University of California, Davis, 412 Mrak Hall, One Shields Avenue, Davis, CA 95616, telephone (530) 752-8501, email mnoble@ucdavis.edu, by September 21, 2020. After that date, if no additional requestors have come forward, transfer of control of the human remains and associated funerary objects to the Cachil DeHe Band of Wintun Indians of the Colusa Indian Community of the Colusa Rancheria, California; Kletsel Dehe Band of Wintun Indians (previously listed as Cortina Indian Rancheria and the Cortina Indian Rancheria of Wintun Indians of California); and the Yocha Dehe Wintun Nation, California (previously listed as Rumsey Indian Rancheria of Wintun Indians of California), hereafter referred to as “The Tribes” may proceed.

The University of California, Davis is responsible for notifying The Tribes that this notice has been published.

Dated: July 13, 2020.
Melanie O'Brien,
Manager, National NAGPRA Program.

[FR Doc. 2020-18231 Filed 8-19-20; 8:45 am]

BILLING CODE 4312-52-P